DEPARTMENT OF ENERGY

Federal Energy Regulatory Commission

[Docket No. RP00-354-003]

Columbia Gas Transmission Corporation; Notice of Proposed Changes in FERC Gas Tariff

December 14, 2000.

Take notice that on December 8, 2000, Columbia Gas Transmission Corporation (Columbia) tendered for filing as part of its FERC Gas Tariff, Second Revised Volume No. 1, the following revised tariff sheet, with a proposed effective date of August 1, 2000:

Substitute Original Sheet No. 486

Columbia states that on June 23, 2000, Columbia filed tariff sheets in Docket No. RP00-354 to update its tariff consistent with Commission policy and decisions on tariff filings made by other interstate pipelines concerning permissible discounting arrangements and negotiated-rate authority related changes. On July 27, 2000, the Commission accepted the filed tariff sheets to be effective August 1, 2000, subject to Columbia making a compliance filing within 15 days. On November 24, 2000, the Commission issued an order accepting Columbia's August 9, 2000 compliance filing subject to the conditions therein, and granted and denied Columbia's request for rehearing. The instant filing is being made to comply with the November 24, 2000 Order.

Columbia states that copies of its filing have been mailed to all firm customers, interruptible customers, affected state commissions and parties on the official service list in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance.) Comments and protests may be filed electronically via the internet in lieu of paper. See, 18 CFR 385.2001(a)(1)(iii) and the instructions on the Commission's web site at http://www.ferc.fed.us/efi/doorbell.htm.

David P. Boergers,
Secretary.

[FR Doc. 00-32350 Filed 12-19-00; 8:45 am]

BILLING CODE 6717-01-M